DEPARTMENT OF LABOR

Employment And Training Administration

[TA-W-52,777]

Steelcase, Inc. Including Leased Workers Of RCM Technologies Grand Rapids, MI; Amended Revised Determination Regarding Eligibility To Apply for Worker Adjustment Assistance and Alternative Trade Adjustment Assistance

In accordance with section 223 of the Trade Act of 1974 (19 U.S.C. 2273) and section 246 of the Trade Act of 1974 (26 U.S.C. 2813), as amended, the Department of Labor issued an Amended Revised Determination on Reconsideration Regarding Eligibility to Apply for Worker Adjustment Assistance and Alternative Trade Adjustment Assistance on March 30, 2004, applicable to workers of Steelcase, Inc., located in Grand Rapids, Michigan. The revised determination was amended to include employees of RCM Technologies working at the subject firm. The notice was published in the Federal Register on April 16, 2004 (69 FR 20646-20647).

At the request of the State Agency, the Department reviewed the certification for workers of the subject firm. The workers produce office furniture and furniture parts.

The review shows that the Department inadvertently erred in setting the expiration date at December 11, 2005. The correct expiration date is October 14, 2005, two years after the issuance of the initial certification for the worker group. Therefore, the Department is again amending the revised determination to reflect the correct impact date.

The amended notice applicable to TA-W-52,777 is hereby issued as follows:

All workers of Steelcase, Inc., Grand Rapids, Michigan, including leased workers of RCM Technologies working at Steelcase, Inc., Grand Rapids, Michigan, who became totally or partially separated from employment on or after August 12, 2002, through October 14, 2005, are eligible to apply for adjustment assistance under section 223 of the Trade Act of 1974, and are also eligible to apply for alternative trade adjustment assistance under Section 246 of the Trade Act of 1974, as amended.

Signed in Washington, DC, this 14th day of February, 2005.
Elliott S. Kushner,
Certifying Officer, Division of Trade Adjustment Assistance.

[FR Doc. E5-685 Filed 2-18-05; 8:45 am]

BILLING CODE 4510-30-P